DEPARTMENT OF DEFENSE

Department of the Army; Corps of Engineers

Availability of the Draft Supplemental Environmental Impact Statement for the Boston Harbor Inner Harbor Maintenance Dredging Project

AGENCY: Department of the Army; U.S. Army Corps of Engineers, DOD.

ACTION: Notice of availability.

SUMMARY: The U.S. Army Corps of Engineers, New England District, has prepared a Draft Supplemental Environmental Impact Statement and State Notice of Project Change (DSEIS/NPC) to maintenance dredge the following Federal navigation channels: the Main Ship Channel upstream of Spectacle Island to the Inner Confluence, the upper Reserved Channel, the approach to the Navy Dry Dock, and a portion of the Chelsea River (previously permitted) in Boston Harbor, MA. Maintenance dredging of the navigation channels landward of Spectacle Island is needed to remove shoals and restore the Federal navigation channels to their authorized depths. Materials dredged from the Federal channels will either be disposed of at the Massachusetts Bay Disposal Site (if the material is suitable for unconfined open water disposal) or, if the material is not suitable for unconfined open water disposal, in confined aquatic disposal (CAD) cell(s). Major navigation channel improvements (deepening) were made in 1999 through 2001 in the Reserved Channel, the Mystic River, Inner Confluence and the Chelsea River. A final EIS was prepared for this previous navigation improvement project in June of 1995 in which the use of CAD cells in the Mystic River, Inner Confluence, and Chelsea River were investigated. A CAD cell for the proposed maintenance project will be constructed in the Mystic River and in the Main Ship Channel just below the Inner Confluence.

DATES: Submit comments on or before February 27, 2006.

ADDRESSES: If you wish to receive a copy of the DSEIS, Executive Summary, or provide comments on the DSEIS/NPC, please contact Ms. Catherine Rogers, Ecologist, U.S. Army Corps of Engineers, New England District, Evaluation Branch, 696 Virginia Road, Concord, MA 01742.

FOR FURTHER INFORMATION CONTACT: Ms. Catherine Rogers, (978) 318-8231.

SUPPLEMENTARY INFORMATION: The U.S. Army Corps of Engineers is authorized by the various Rivers and Harbor Acts and Water Resources Development Acts to conduct maintenance dredging of the Federal navigation channels and anchorage areas in Boston Harbor.

A public meeting to solicit comments has been scheduled for 2 p.m. on Tuesday, February 14, 2006, on the second floor of the Black Falcon Cruise Terminal, One Black Falcon Avenue, Boston, MA.

Dated: December 30, 2005.
Curtis L. Thalken,
Colonel, Corps of Engineers, New England District.

[FR Doc. 06-318 Filed 1-12-06; 8:45 am]

BILLING CODE 3710-24-M